DEPARTMENT OF ENERGY

Federal Energy Regulatory Commission

[Project No. 2446-052]

STS Hydropower, LLC; Notice of Application Accepted for Filing, Soliciting Motions To Intervene and Protests, Ready for Environmental Analysis, and Soliciting Comments, Recommendations, Terms and Conditions, and Fishway Prescriptions

Take notice that the following hydroelectric application has been filed with the Commission and is available for public inspection.

a. Type of Application: New Major License.

b. Project No.: 2446-052.

c. Date filed: August 30, 2022.

d. Applicant: STS Hydropower, LLC (STS Hydropower).

e. Name of Project: Dixon Hydroelectric Project (Dixon Project).

f. Location: On the Rock River near the City of Dixon in Lee and Ogle Counties, Illinois.

g. Filed Pursuant to: Federal Power Act 16 U.S.C. 791(a)-825(r).

h. Applicant Contact: Mr. David Fox, Senior Director of Regulatory Affairs, Eagle Creek RE Management, LLC, 7315 Wisconsin Avenue, Suite 1100W, Bethesda, Maryland 20814, (240) 724-8765, david.fox@eaglecreekre.com.

i. FERC Contact: Laura Washington (202) 502-6072, Laura.Washington@ferc.gov.

j. Deadline for filing motions to intervene and protests, comments, recommendations, terms and conditions, and fishway prescriptions: 60 days from the issuance date of this notice; reply comments are due 105 days from the issuance date of this notice.

The Commission strongly encourages electronic filing. Please file motions to intervene and protests, comments, recommendations, terms and conditions, and fishway prescriptions using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Dixon Hydroelectric Project (P-2446-052).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Dixon Hydroelectric Project consists of the following existing facilities: (1) a 305.9-acre reservoir with a gross storage capacity of 1,530 acre-feet at a maximum reservoir surface elevation of 647.08 feet National Geodetic Vertical Datum of 1929 (NGVD 29); (2) a 130-foot-wide by 18-foot-deep forebay located immediately upstream of the powerhouse; (3) a succession of dam structures including, from left to right looking downstream: (i) a 250-foot-long powerhouse integral with the dam equipped with 200-foot-wide by 15-foot-high trash racks with 5-inch clear spacing, (ii) a 114-foot-long by 24-foot-high forebay wall set perpendicular to the dam that ties the powerhouse and fender wall to the dam, (iii) a 286-foot-long fender wall located upstream of the project forebay extending from the upstream end of the fender wall to the south riverbank, and (iv) a 610-foot-long north overflow dam extending from the forebay wall to the north riverbank, topped with 16-inch flashboards; (4) five vertical-shaft turbine-generating units, each with a maximum hydraulic capacity of 1,100 cubic feet per second, for a total installed capacity of 3,200 kilowatts; (5) a 30-foot-long, 34.5-kilovolt (kV) transmission line conveying project power to the point of interconnection via two 2.3-kV transformers; and (6) appurtenant facilities.

The Dixon Project includes one project recreation facility, the Dixon canoe portage.

The Dixon Project is currently operated in a run-of-river mode and generates an annual average of approximately 14,995 megawatt-hours. STS Hydropower proposes to continue operating the project as a run-of-river facility and does not propose any new construction.

STS Hydropower proposes modifications to the current project boundary. The proposed project boundary would include STS Hydropower-owned lands that include project facilities. The proposed project boundary has been modified to: (1) extend 400 feet downstream to include all STS Hydropower-owned lands that include the tailrace fishing area; (2) remove lands that are over elevation 647.04 feet NGVD 29 that are not necessary for project operation; and (3) remove several archeological sites that are not impounded by the project dam.

The current project boundary encompasses 2583.17 acres, which includes 806.67 acres of project lands and 1,776.5 acres of submerged land. The proposed project boundary would include approximately 399.14 acres, 84.84 acres of which is land and 314.3 acres of which is inundated.

m. A copy of the application can be viewed on the Commission's website at https://www.ferc.gov using the “eLibrary” link. Enter the docket number excluding the last three digits in the docket number field to access the document (i.e., P-2446). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The license applicant must file no later than 60 days following the date of issuance of this notice: (1) a copy of the water quality certification; (2) a copy of the request for certification, including proof of the date on which the certifying agency received the request; or (3) evidence of waiver of water quality certification.

p. Procedural schedule: The application will be processed according to the following schedule. Revisions to the schedule will be made as appropriate.

Milestone | Target date
Deadline for filing comments, recommendations, terms and conditions, and prescriptions | February 2025.
Deadline for filing reply comments | March 2025.

q. Final amendments to the application must be filed with the Commission no later than 30 days from the issuance date of this notice.

Dated: December 4, 2024.
Carlos D. Clay,
Acting Deputy Secretary.

[FR Doc. 2024-28958 Filed 12-9-24; 8:45 am]

BILLING CODE 6717-01-P